FEDERAL COMMUNICATIONS COMMISSION

47 CFR Part 73

[DA 03-777; MB Docket No. 03-68; RM-10654, RM-10656]

Radio Broadcasting Services; Fort Stockton and Sanderson, TX

AGENCY: Federal Communications Commission.

ACTION: Proposed rule.

SUMMARY: This document requests comments on two mutually exclusive Petitions for Rule Making. The first proposal, filed by Linda Crawford, requests the allotment of Channel 263C at Fort Stockton, Texas, as that community's second FM commercial service. The second proposal, filed by Katherine Pyeatt, seeks the allotment of Channel 261C3 at Sanderson, Texas, as that community's first FM commercial service. Channel 263C can be allotted to Fort Stockton, Texas, in conformity with the Commission's Rules, provided there is a site restriction of 13.8 kilometers (8.6 miles) southeast of the community. The reference coordinates for Channel 263C at Fort Stockton are 30-50-06 North Latitude and 102-45-06 West Longitude. Alternatively, Channel 261C3 can be allotted to Sanderson, consistent with the minimum distance separation requirements of Section 73.207(b) of the Commission's Rules, provided there is a site restriction of 12.3 kilometers (7.6 miles) north of the community. The reference coordinates for Channel 261C3 at Sanderson are 30-15-08 North Latitude and 102-22-53 West Longitude.

DATES: Comments must be filed on or before May 5, 2003, and reply comments on or before May 20, 2003.

ADDRESSES: Federal Communications Commission, 445 Twelfth Street, SW., Washington, DC 20554. In addition to filing comments with the FCC, interested parties should serve the petitioner, as follows: Linda Crawford, 3500 Maple Avenue #1320, Dallas, Texas 75219 and Katherine Pyeatt, 6655 Aintree Circle, Dallas, Texas 75214.

FOR FURTHER INFORMATION CONTACT: Rolanda F. Smith, Media Bureau, (202) 418-2180.

SUPPLEMENTARY INFORMATION: This is a summary of the Commission's Notice of Proposed Rule Making, MB Docket No. 03-68, adopted March 12, 2003, and released March 14, 2003. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 263C at Fort Stockton and by adding Sanderson, Channel 261C3.

Federal Communications Commission.
John A. Karousos,
Assistant Chief, Audio Division, Media Bureau.

[FR Doc. 03-7468 Filed 3-27-03; 8:45 am]

BILLING CODE 6712-01-U